DEPARTMENT OF JUSTICE

[AAG/A Order No. 194-2000]

Privacy Act; System of Records

Pursuant to the Privacy Act of 1974 (5 U.S.C. 552a), notice is given that the Federal Bureau of Prisons (Bureau) proposes to modify a system of records. Specifically, the “National Institute of Corrections Technical Assistance Resource Persons Directory, JUSTICE/BOP-101” (last published on April 18, 1983, (48 FR 16556,)) has been re-titled, the “National Institute of Corrections Technical Resource Provider Record System, JUSTICE/BOP-101.”

This system, which will become effective 60 days from the date of publication, has been revised to include an expanded group of individuals who provide training and technical assistance to correctional agencies through the National Institute of Corrections (NIC). These individuals are now referred to as Technical Resource Providers (TRPs). The system is being re-titled to reflect this new term.

The Bureau is further modifying the system to add a statement on the purpose of this system and to add new categories of records and new record source categories. Appropriate sections have been revised to reflect technological advances and new agency practices regarding the storage, retrieval, access, retention and disposal of records in the system. The system manager has been re-designated from the Technical Assistance Manager to the Director, National Institute of Corrections.

The Routine Use section has been re-organized to group similar Routine Uses together. Two new Routine Uses have been added to allow for disclosure to law enforcement officials for law enforcement purposes and to employees and/or contractors of the National Archives and Records Administration and the General Services Administration for records management inspections pursuant to 44 U.S.C. 2904 and 2906.

The Office of Management and Budget (OMB), which has oversight responsibilities under the Privacy Act, requires that it be given a 40-day period in which to review the system. The public, OMB, and the Congress are invited to send written comments to Mary Cahill, Management and Planning Staff, Justice Management Division, Department of Justice, Washington, DC 20530 (1400 National Place Building).

A description of the modified system of records is provided below. In addition, in accordance with 5 U.S.C. 552a(r), the Department has provided a report to OMB and the Congress on the proposed modification.

Dated: February 14, 2000.
Stephen R. Colgate,
Assistant Attorney General for Administration.

JUSTICE/BOP-101

System Name

National Institute of Corrections Technical Resource Provider Record System.

System Location

Records may be retained at the National Institute of Corrections (NIC) headquarters in Washington, DC or in NIC field Offices, e.g., the NIC Academy campus currently located in Longmont, Colorado.

Categories of Individuals Covered by the System

Individuals who have been identified and have agreed to provide technical and/or training assistance to state, local, tribal, foreign and international correctional agencies in order to strengthen and improve the practice of corrections. These individuals are referred to as Technical Resource Providers (TRPs).

Categories of Records in the System

Records in this system include: (1) Identification and/or logistical information for each TRPs, including name, mailing address and telephone numbers; (2) resume and/or biographical information of each TRP, including educational and work experience; (3) program information concerning the subject area of expertise and descriptive comments provided by each TRP; and (4) records generated by the system listing TRPs i.e. database printouts which include information enumerated in (1), (2), and (3) above.

Authority for Maintenance of the System

This system is established and maintained under the authority of 18 U.S.C. 4352.

Purpose(s)

Recent technological developments are making it possible for the National Institute of Corrections (NIC) to consolidate and automate its directory of individuals available to provide technical and/or training assistance to corrections agencies. These individuals are currently called Technical Resource Providers (TRPs) and the information about each TRP that is contained in this system assists NIC in identifying appropriate TRPs to staff corrections seminars and provide technical assistance.

Routine Uses of Records Maintained in the System, Including Categories of Users and the Purposes of Such Uses

Relevant data from this system will be disclosed as follows:

(a) To federal agencies, and/or state, local, tribal, foreign and international government agencies that have a need for the information in the performance of their official duties.

(b) To individuals, groups or private correction companies who request technical assistance and/or training in corrections.

(c) To officials and/or contractors of federal, state, local, tribal, foreign and international law enforcement agencies for law enforcement purposes such as investigations, possible criminal prosecutions, civil court actions, and/or regulatory proceedings.

(d) to employees and/or contractors of the National Archives and Records Administration and General Services Administration in records management inspections conducted under the authority of 44 U.S.C. 2904 and 2906.

Policies and Practices for Storing, Retrieving, Accessing, Retaining, and Disposing of Records in the System

Storage

Information maintained in the system is stored in hard copy and/or electronic media in NIC facilities via a configuration of personal computer, client/server, and mainframe systems architecture. Computerized records are maintained on hard disk, floppy diskettes, magnetic tapes and/or optical disks. Documentary records are maintained in manual file folders and/or index cards.

Retrievability

Records are retrievable by identification/logistical information, e.g. name and address of TRP, and/or by the subject area of expertise.

Safeguards

Information is safeguarded in accordance with Department of Justice and Bureau of Prisons rules and policy governing automated information systems security and access. These safeguard include the maintenance of records and technical equipment in restricted areas, e.g. locked offices and locked file cabinets in controlled-access buildings, and the required use of proper passwords and user identification codes to access the system. Only those NIC personnel who require access to perform their official duties may access the system equipment and the information in the system.

Retention and Disposal

Electronic records generated by the system are retained until such time as the records no longer serve the purpose described by this system. At such time, these records may be updated and/or incorporated into an appropriate, published system or records with an approved retention schedule, or otherwise destroyed by shredding and/or degaussing. Documentary records are retained for eight (8) years and then destroyed by shredding.

System Manger(s) and Address

Director, National Institute of Corrections, Room 5007, 320 First St. NW, Washington, DC 20534.

Notification Procedure

Inquiries concerning this system should be directed to the System Manager listed above.

Record Access Procedures

All requests for records may be made in writing to the Director, National Institute of Corrections, Room 5007, 320 First St. NW, Washington, DC 20534, and should be clearly marked “Privacy Act Request.”

Contesting Record Procedures

Same as above.

Record Source Categories

Records are generated by individuals listed as a TRP, by NIC staff, and/or staff from other correctional and/or other law enforcement agencies.

Systems Exempted from Certain Provisions of the Act

None.

[FR Doc. 00-4973 Filed 3-1-00; 8:45 am]

BILLING CODE 4410-CJ-M